DEPARTMENT OF COMMERCE

International Trade Administration

The Association of Universities for Research in Astronomy; Notice of Decision on Application for Duty-Free Entry of Scientific Instruments

This is a decision pursuant to section 6(c) of the Educational, Scientific, and Cultural Materials Importation Act of 1966 (Pub. L. 89-651, as amended by Pub. L. 106-36; 80 Stat. 897; 15 CFR part 301). On January 24, 2023, the Department of Commerce published a notice in the Federal Register requesting public comment on whether instruments of equivalent scientific value, for the purposes for which the instruments identified in the docket(s) below are intended to be used, are being manufactured in the United States. See Application(s) for Duty-Free Entry of Scientific Instruments, 88 FR 4155, January 24, 2023 (Notice). We received no public comments.

Docket Number: 23-004. Applicant: The Association of Universities for Research in Astronomy (AURA), 950 N Cherry Avenue, Tucson, AZ 85719. Instrument: (4) Laser Launch Telescopes. Manufacturer: Officina Stellare, S.p.A., Italy. Intended Use: The instrument is intended to be used to study the creation of four artificial stars for the purpose of conducting Adaptive Optics scientific observations. Existing and upcoming next generation optical telescopes require highly reliable 589 nm high power lasers—to generate so-called Guide Star Lasers—for the implementation of adaptive optics facilities. The four Laser Launch Telescopes will be used to project these laser beacons to create a constellation of artificial laser guide stars on top of the telescope. The experiments to be conducted: The four Laser Launch Telescopes used as an accessory to the Adaptive Optics system GMAO (currently in development) will propagate a constellation of artificial guide stars to measure the incoming wavefront. The objectives pursued during the investigations will be used on selected nights for selected astronomical targets in hopes of attaining better scientific data.

Dated: February 21, 2023.
Gregory W. Campbell,
Director, Subsidies Enforcement and Economic Analysis, Enforcement and Compliance.

[FR Doc. 2023-03966 Filed 2-24-23; 8:45 am]

BILLING CODE 3510-DS-P